DEPARTMENT OF HEALTH AND HUMAN SERVICES

Health Resources and Services Administration

Advisory Council on Blood Stem Cell Transplantation

AGENCY: Health Resources and Services Administration (HRSA), Department of Health and Human Services.

ACTION: Notice.

SUMMARY: In accordance with the Federal Advisory Committee Act, this notice announces that the Secretary's Advisory Council on Blood Stem Cell Transplantation (ACBSCT or Advisory Council) has scheduled public meetings. Information about the Advisory Council and the agenda for these meetings can be found on the ACBSCT website at: https://bloodstemcell.hrsa.gov/about/advisory-council.

DATES: Thursday, September 28, 2023, 2:00 p.m.-6:00 p.m. Eastern Standard Time; and Thursday, October 26, 2023, 2:00 p.m.-6:00 p.m. Eastern Standard Time.

ADDRESSES: Both meetings will be held virtually by webinar. A link to register and join each meeting will be posted at least 10 days prior to the meeting date at: https://bloodstemcell.hrsa.gov/about/advisory-council.

FOR FURTHER INFORMATION CONTACT: Shelley Tims Grant, Designated Federal Official, at the HRSA Health Systems Bureau, Division of Transplantation, 5600 Fishers Lane, 8W-67, Rockville, MD 20857; 301-443-8036; or ACBSCTHRSA@hrsa.gov.

SUPPLEMENTARY INFORMATION: The Advisory Council provides advice and recommendations to the Secretary of Health and Human Services on policy, program development, and other matters of significance concerning the activities under the authority of 42 U.S.C. 274k (section 379 of the Public Health Service Act), as amended, and Public Law 109-129, as amended. The Advisory Council may transmit its recommendations through the Administrator of HRSA on matters related to the activities of the C.W. Bill Young Cell Transplantation Program and National Cord Blood Inventory.

The agenda for the September 28, 2023, meeting is being finalized and may include the following topics: the Department of Health and Human Services' periodic review of the state of the science of using adult stem cells and birthing tissues to develop new types of therapies for patients, for the purpose of considering potential inclusion of such new therapies in the C.W. Bill Young Cell Transplantation Program; criteria for defining a high-quality cord blood unit for banking specifications; the unmet needs in blood stem cell transplantation and cellular therapy; strategies to improve rates of donation for adult blood stem cell donors; and other areas to increase blood stem cell donation and transplantation. The agenda for the October 26, 2023, meeting will be determined based on discussion, priorities, and/or action items from the September 28, 2023 meeting. All agenda items will be posted on the Advisory Council's website no later than 10 days prior to the respective meeting dates. Agenda items are subject to change as priorities dictate. Refer to the Advisory Council's website for any updated information concerning the meeting. Members of the public will have the opportunity to provide comments. Public participants may submit written statements in advance of the scheduled meetings; oral comments will be honored in the order they are requested and may be limited as time allows. Requests to submit a written statement or make oral comments to the Advisory Council should be sent to Shelley Tims Grant, using the contact information above at least 3 business days prior to the meeting. Individuals who plan to attend and need special assistance or other reasonable accommodations should notify the Advisory Council at the address and phone number listed above at least 10 business days prior to the meeting.

Maria G. Button,
Director, Executive Secretariat.

[FR Doc. 2023-19398 Filed 9-7-23; 8:45 am]

BILLING CODE 4165-15-P